DEPARTMENT OF THE INTERIOR

National Park Service, Pacific West Region

San Gabriel River Watershed Special Resource Study, Los Angeles and Orange Counties, CA; Notice of Scoping

Summary: Notice is hereby given in accordance with provisions of the National Environmental Policy Act of 1969 (Public Law 91-190) and Council on Environmental Quality's implementing regulations (40 CFR 1502.9(c)) that public scoping has been initiated for the conservation planning and environmental impact analysis process to identify and assess potential impacts of alternative resource protection and other considerations within the San Gabriel River Watershed Special Resource Study area in the Los Angeles Metropolitan Region. The purpose of the scoping process is to elicit public comment regarding issues and concerns, alternatives, and the nature and extent of potential environmental impacts (and as appropriate, mitigation measures) which should be addressed.

Background: As authorized by Public Law 108-042, the NPS is conducting a special resource study of the San Gabriel River and its tributaries from the city of Santa Fe Springs to the north, and the San Gabriel Mountains within the territory of the San Gabriel and Lower Los Angeles Rivers and Mountains Conservancy. The study area includes areas of the Angeles National Forest, as well as many urban communities along the San Gabriel River and its tributaries. Although the Angeles National Forest and various local and county parks provide recreational opportunities, many communities within the study area experience a lack of open space and their associated recreational opportunities.

In conducting the San Gabriel Watershed Special Resource Study, the NPS will evaluate the national significance of the area's natural and cultural resources. The NPS will also assess the area's suitability and feasibility to be a unit of the National Park System. Factors which the NPS study team will evaluate include: Whether the study area includes types or quality of resources not already adequately represented in the National Park System; whether long-term protection and public use of the area are feasible; and whether the area can be adequately protected and administered at a reasonable cost. The NPS's conclusions may vary for different portions of the study area.

The NPS will also consider: Alternative strategies for the management, protection and use of significant resources within the overall study area, including management by other public agencies or the private sector; technical or financial assistance available from established programs or special initiatives and partnerships; alternative designations to a national park unit and; cooperative management by NPS and other entities.

The authorizing statute directs the NPS to consider regional flood control and drainage needs and publicly owned infrastructure such as wastewater treatment facilities. Opportunities for increased open space and recreational opportunities will also be considered in the study.

Public Involvement: During the study process, a range of alternatives will be developed, in consultation with Federal, State and local governments and the public. The law authorizing this study directs the NPS to consult with the San Gabriel and Lower Los Angeles Rivers and Mountains Conservancy and with other appropriate Federal, State and local governmental entities. The NPS will conduct an environmental review of the alternatives and the potential impacts of resource protection considerations as part of the San Gabriel River Watershed Special Resource Study. At this time, it has not been determined whether an Environmental Assessment or an Environmental Impact Statement will be prepared, however, this scoping process will aid in the preparation of either document, and public comments will aid in making this determination. The public will have opportunities to comment and participate throughout the study process, including the opportunity to review the environmental document and submit additional comments.

For initial scoping and alternatives development, the most useful comments are those that provide the NPS with assistance in identifying issues and concerns which should be addressed, or providing important information germane to this study. All responses to this Notice will also be used to establish a mailing list of interested persons, organizations, and agencies that desire to receive further information as the environmental document is developed.

The public scoping period for the San Gabriel River Watershed Special Resource Study will conclude 90 days after the publication of this Scoping Notice in the Federal Register. As soon as this date can be determined, it will be posted on the study Web site (noted below) and announced by press release to local and regional media. Scoping meetings will be held in the Los Angeles Region in the winter and/or spring of 2005. Interested individuals, organizations, and agencies wishing to provide written comments on issues or concerns should respond to: National Park Service, San Gabriel River Watershed Special Resource Study, 1111 Jackson Street, Suite 700, Oakland, CA 94607. Comments may also be submitted electronically through the NPS Planning, Environment and Public Comment (PEPC) system (which can be accessed through the study's Web site listed below). In addition, the study team may be contacted anytime via e-mail at pwr_sangabriel@nps.gov. If individuals submitting comments request that their name and/or address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Future Information: Further information about the study process and opportunities for the public to participate will be distributed via direct mailings, regional and local news media, and announcements on the San Gabriel Watershed Special Resource Study Web site (http://www.nps.gov/pwro/sangabriel).

Decision Process: Availability of the forthcoming draft environmental document for review and written comment will be announced by local and regional news media, the above listed Web site, and direct mailing. At this time the draft document is anticipated to be available for public review and comment by late 2006 or early 2007. Comments on the draft document will be fully considered in the decision making process and responded to as appropriate in the final document. The official responsible for the initial recommendation will be the Regional Director, Pacific West Region, National Park Service. The official responsible for amending or ratifying the recommendation and transmitting the final document to the Secretary of the Interior will be the Director of the National Park Service. The final document will identify the alternative that, in the professional judgment of the Director of the National Park Service, is the most effective and efficient method for protecting significant resources and providing for public enjoyment. The Secretary of the Interior subsequently will forward the completed study along with a recommendation regarding the Secretary's preferred management option for the area to Congress for their consideration. It is anticipated that the final study report will be available in winter 2008.

Dated: December 14, 2004.
Jonathan B. Jarvis,
Regional Director, Pacific West Region.

[FR Doc. 05-986 Filed 1-18-05; 8:45 am]

BILLING CODE 4312-FW-P